DEPARTMENT OF TRANSPORTATION

Federal Highway Administration

Environmental Impact Statement: Graham County, North Carolina

AGENCY: Federal Highway Administration (FHWA), DOT.

ACTION: Rescinding of Notice of Intent.

SUMMARY: On Wednesday, July 25, 2007, FHWA issued a Notice of Intent (NOI) to advise the public that a Supplemental Final Environmental Impact Statement (Supp. FEIS) would be prepared for the proposed relocation of US 74 from US 129 in Robbinsville top NC 28 in Stecoah, Graham County, North Carolina (STIP Project A-0009BC). The FHWA is issuing this notice to advise the public that it is rescinding the public notice to prepare a Supp. FEIS and the Draft Supp. FEIS issued in June 2008 for STIP No. A-0009BC, Graham County, North Carolina.

FOR FURTHER INFORMATION CONTACT: Clarence W. Coleman, P.E., Director of Preconstruction, Federal Highway Administration, 310 New Bern Avenue, Suite 410, Raleigh, North Carolina 27601-1418, Telephone: (919) 747-7014; or Mr. Brian Burch, P.E., North Carolina Department of Transportation, Division 14 Engineer, 253 Webster Street, Sylva, North Carolina 28779, Telephone: (828) 586-2141.

SUPPLEMENTARY INFORMATION: The FHWA, in cooperation with the North Carolina Department of Transportation (NCDOT), is rescinding the NOI to prepare a Supp. FEIS issued on July 25, 2007 (72 FR 40922), for proposed relocation of US 74 from US 129 in Robbinsville to NC 28 in Stecoah, Corridor K of the Appalachian Highway System (ADHS), Graham County, North Carolina. The FHWA is also rescinding the Draft Supp. FEIS released in June 2008. The FHWA and NCDOT are working with local governments, along with federal and state permitting and resource agency partners and the public, to reevaluate the scope for improvements along Corridor K of the ADHS. Following the development of the scope for proposed improvements, FHWA will determine the appropriate action to comply with the National Environmental Policy Act (NEPA). Comments or questions concerning this rescinding notice and future activities associated with Corridor K of the ADHS in Cherokee and Graham Counties should be directed to FHWA and NCDOT at the addresses provided above.

(Catalog of Federal Domestic Assistance Program Number 20.205, Highway Planning and Construction. The regulations implementing Executive Order 12372 regarding intergovernmental consultation on Federal programs and activities apply to this program.)

Authority: 23 U.S.C. 139

Issued on: August 2, 2019.
Clarence W. Coleman,
Director of Preconstruction, Raleigh, North Carolina.

[FR Doc. 2019-17087 Filed 8-8-19; 8:45 am]

BILLING CODE 4910-RY-P